DEPARTMENT OF THE INTERIOR

Fish and Wildlife Service

[Docket No. FWS-HQ-OSA-2021-0113; FF09S00000-XXX-FXSC42050900000-4205 and FF09W25000-212-FXGO166409WSFR0; OMB Control Numbers 1018-New and 1018-0100]

Agency Information Collection Activities; Proposed Changes to U.S. Fish and Wildlife Service Administration of Grants To Implement the American Rescue Plan Act of 2021

AGENCY: Fish and Wildlife Service, Interior.

ACTION: Notice of information collection; request for comment.

SUMMARY: In accordance with the Paperwork Reduction Act of 1995, we, the U.S. Fish and Wildlife Service (Service), will seek Office of Management and Budget (OMB) approval of an emergency clearance of a new information collection and a revision to an existing information collection.

DATES: Interested persons are invited to submit comments on or before May 31, 2022.

ADDRESSES: Send your comments on the information collection request (ICR) by one of the following methods (please reference Docket No. FWS-HQ-OSA-2021-0113 in the subject line of your comment):

• Internet (preferred): http://www.regulations.gov. Follow the instructions for submitting comments on Docket No. FWS-HQ-OSA-2021-0113.

• Email: Info_Coll@fws.gov.

• U.S. mail: Service Information Collection Clearance Officer, U.S. Fish and Wildlife Service, 5275 Leesburg Pike, MS: PRB (JAO/3W); Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations in the Code of Federal Regulations (CFR) at 5 CFR 1320, all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: In response to the American Rescue Plan Act (ARPA; Pub. L. 117-2, March 11, 2021), the Service will seek OMB approval of an emergency clearance of a one-time high-level survey of States, Federally recognized Tribes, and territorial governments and an associated revision to an existing information collection (OMB Control No. 1018-0100), as described below:

Emergency Clearance of a One-Time Survey

The Service intends to seek emergency clearance of a new information collection to conduct a one-time survey of States, Federally recognized Tribes, and territorial governments under ARPA. The purpose of this one-time survey is to provide a snapshot of agencies' current capacity to conduct surveillance for and manage wildlife diseases. This high-level survey will assess key components of a program and it is not intended to assess all aspects of a program, nor compare among programs.

The information to be requested from State, Tribal, and territorial governments includes the following:

• Name of agency/organization;

• Business email address of respondent; and

• Conditions of wildlife disease program, to include whether the agency has:

○ An approved wildlife health management plan;

○ A dedicated wildlife health professional within their jurisdiction;

○ Access to diagnostic services;

○ The ability to respond to wildlife disease outbreaks;

○ Established networks, memorandums of agreements, and/or working relationships with core partners; and

○ A mechanism for communication of diagnostic results within and outside their jurisdiction.

This one-time survey is a companion information collection to a new financial assistance program, the Zoonotic Disease Initiative (ZDI), to be added to our existing information collection OMB Control No. 1018-0100. This new financial assistance program will begin in 2022, and the survey will inform program creation and evaluation for the ZDI. Members of the public may obtain copies of the draft survey by submitting a request to the Service Information Collection Clearance Officer, using one of the methods identified in the ADDRESSES section of this notice.

Title of Collection: High-Level Survey to Assess Current Capacity to Manage Wildlife Diseases by State, Tribal, and Territorial Governments Under the American Rescue Plan Act of 2021.

OMB Control Number: 1018-New.

Form Number: None.

Type of Review: Emergency clearance of a new collection of information.

Respondents/Affected Public: State, Tribal, and territorial governments.

Total Estimated Number of Annual Respondents: 630 (50 States, 6 territories, and 574 Tribes).

Average Number of Responses per Respondent: 1.

Total Estimated Number of Annual Responses: 630.

Estimated Average Completion Time per Response: 20 minutes.

Total Estimated Number of Annual Burden Hours: 210 hours.

Respondent's Obligation: Voluntary.

Frequency of Collection: On occasion.

Total Estimated Annual Nonhour Burden Cost: None.

Revision of OMB Control No. 1018-0100

We issue financial assistance through grants and cooperative agreement awards to individuals; commercial organizations; institutions of higher education; nonprofit organizations; foreign entities; and State, local, and Tribal governments. The Service administers a wide variety of financial assistance programs, authorized by Congress to address the Service's mission, as listed in the System for Award Management (SAM) Assistance Listings, previously referred to as the Catalog of Federal Domestic Assistance. SAM provides public descriptions of assistance listings of Federal programs, projects, services, and activities that provide assistance or benefits to the American public. It contains financial and non-financial assistance programs administered by departments and establishments of the Federal government. The Assistance Listings are assigned unique numbers and provide information on program types, the specific type of assistance for each program, and the applicable financial assistance authorities for each program. See the Service's active Assistance Listings on SAM, at https://sam.gov/, for additional detailed information.

The Service currently manages the following types of assistance programs:

• Formula Grants

• Project Grants

• Project Grants (Discretionary)

• Cooperative Agreements (Discretionary Grants)

• Direct Payments with Unrestricted Use

• Use of Property, Facilities, and Equipment

Some assistance programs are mandatory and award funds to eligible recipients according to a formula prescribed in law or regulation. Other programs are discretionary and award funds based on competitive selection and merit review processes. Mandatory award recipients must give us specific, detailed project information during the application process so that we may ensure that projects are eligible for the mandatory funding, are substantial in character and design, and comply with all applicable Federal laws. Applicants to discretionary programs must give us information as dictated by the program requirements and as requested in the program's public notice of funding opportunity, including that information that addresses ranking criteria. All recipients must submit financial and performance reports that contain information necessary for us to track costs and accomplishments. The recipients' reports must adhere to schedules and rules in 2 CFR part 200, “Uniform Administrative Requirements, Cost Principles, and Audit Requirements for Federal Awards,” and the award terms and conditions. Part 200 prescribes the information that Federal agencies must collect, and also the information the financial assistance applicants and recipients must provide in order to receive benefits under Federal financial assistance programs. The regulations in part 200 support this information collection.

The Service provides technical and financial assistance to other Federal agencies, States, local governments, Federally recognized Tribes, nongovernmental organizations, citizen groups, and private landowners for the conservation and management of fish and wildlife resources. The process begins with the submission of an application. The respective program reviews and prioritizes proposed projects based on their respective project selection criteria. Pending availability of funding, applicants submit their application documents to the Service through the Federal Grants.gov website or through the Department's grants management system (currently the U.S. Department of Health and Human Services' GrantSolutions), when solicited by the Service through a Funding Opportunity.

As part of this collection of information, the Service collects the following types of information requiring approval under the PRA:

A. Application Package: We use the information provided in applications to: (1) Determine eligibility under the authorizing legislation and applicable program regulations; (2) determine allowability of major cost items under the Cost Principles at 2 CFR 200; (3) select those projects that will provide the highest return on the Federal investment; and (4) assist in compliance with laws, as applicable, such as the National Environmental Policy Act, the National Historic Preservation Act, and the Uniform Relocation Assistance and Real Property Acquisition Policies Act of 1970. The full application package (submitted by the applicant) generally includes the following:

• Required Federal financial assistance application forms (SF-424 suite of forms, as applicable to specified project).

• Project Narrative—generally includes items such as:

○ Statement of need,

○ Project goals and objectives,

○ Methods used and timetable,

○ Description of key personnel qualifications,

○ Description of stakeholders or other relevant organizations/individuals involved and level of involvement,

○ Project monitoring and evaluation plan, and/or

○ Other pertinent project specific information.

• Pertinent project budget-related information—generally includes items such as:

○ Budget justification,

○ Detail on costs requiring prior approval,

○ Indirect cost statement,

○ Federally funded equipment list, and/or

○ Certifications and disclosures.

B. Amendments: Recipients must provide written explanation and submit prior approval requests for budget or project plan revisions, due date extensions for required reports, or other changes to approved award terms and conditions. The information provided by the recipient is used by the Service to determine the eligibility and allowability of activities and to comply with the requirements of 2 CFR 200.

C. Reporting Requirements: Reporting requirements associated with financial assistance awards generally include the following types of reports:

• Federal Financial Reports (using the required SF-425),

• Performance Reports, and

• Real Property Status Reports, when applicable (using the required SF-429 forms series).

D. Recordkeeping Requirements: In accordance with 2 CFR 200.334, financial records, supporting documents, statistical records, and all other non-Federal entity records pertinent to a Federal award must be retained for a period of 3 years after the date of submission of the final expenditure report or, for Federal awards that are renewed quarterly or annually, from the date of the submission of the quarterly or annual financial report, respectively, as reported to the Federal awarding agency or pass-through entity (in the case of a subrecipient) (unless an exemption as described in 2 CFR 200.334 applies that requires retention of records longer than 3 years).

Wildlife Tracking and Reporting Actions for the Conservation of Species (TRACS)

The Pittman-Robertson Wildlife Restoration Act (16 U.S.C. 669 et seq.) and the Dingell-Johnson Sport Fish Restoration Act (16 U.S.C. 777 et seq., except 777e-1) provide authority for Federal assistance to the States for management and restoration of fish and wildlife. These Acts and the regulations at 50 CFR 80, subpart D, require that States, territories, and the District of Columbia annually certify their hunting and fishing license sales. The Wildlife and Sport Fish Restoration (WSFR) program began using TRACS to collect State license data and certifications electronically in Federal fiscal year 2021.

We collect the required data via FWS Form 3-154 (State Fish and Wildlife Agency Hunting and Sport Fishing License Certification). Respondents are the States, the Commonwealths of Puerto Rico and the Northern Mariana Islands, the District of Columbia, and the territories of Guam, the U.S. Virgin Islands, and American Samoa (States). As required by 50 CFR 80, States complete FWS Form 3-154 on an annual basis, in the format that the Director specifies for certifying the number of hunting and fishing license holders and supporting data on total licenses sold and costs to license holders.

The Service uses the reported data to support the certification and run the formulas in the Federal Aid in Wildlife Restoration Act (16 U.S.C. 669 et seq.) and the Federal Aid in Sport Fish Restoration Act (16 U.S.C. 777 et seq., except 777e-1 and g-1) for apportioning Wildlife Restoration and Sport Fish Restoration program funds among the States. The Service also consolidates and publishes this data for the public on the WSFR internet site at http://wsfrprograms.fws.gov/.

Foreign Aid Transparency and Accountability Act Compliance

We administer the enhanced results-oriented accountability requirements in the Foreign Aid Transparency and Accountability Act (Pub. L. 114-191); OMB Guidance Memorandum M-18-04, “Monitoring and Evaluation Guidelines for Federal Departments and Agencies that Administer United States Foreign Assistance” (January 11, 2018); and OMB revisions to 2 CFR part 200, published August 13, 2020 (85 FR 49506).

Proposed Revision to OMB Control No. 1018-0100

We are establishing two new financial assistance programs with funding authorized by ARPA (Section 6003), as described below:

The Zoonotic Disease Initiative will provide financial assistance funding to establish and enhance the capacity of State, Tribal, and territorial fish and wildlife agencies to effectively address health issues involving, and minimize the negative impacts of health issues affecting, free-ranging terrestrial, avian, and aquatic wildlife, through surveillance, management, and research. The goal is to protect the public against zoonotic disease outbreaks. We submitted the program's implementation plan to the Office of Management and Budget (OMB) for review per OMB Guidance Memorandum M-21-24, “Promoting Public Trust in the Federal Government and Effective Policy Implementation through Interagency Review and Coordination of the American Rescue Plan Act” (April 26, 2021).

The MENTOR-Bat program will provide financial assistance funding to support applied conservation projects and development of a global network of committed individuals in foreign countries working to reduce harmful interactions between bats and humans and address disease outbreaks before they become pandemics. We will submit the program's implementation plan to the OMB for review per OMB memorandum M-21-24.

We anticipate an estimated burden increase of 276 annual responses and 7,593 annual burden hours associated with this proposed revision in response to the addition of the two new financial assistance programs. Once OMB's review of the program implementation plans is complete, we will submit requests to establish new Assistance Listings for these programs in the Annual Publication of Assistance Listings to the General Services Administration (GSA). Both programs will apply the uniform requirements in title 2 of the CFR, including 2 CFR 25, 170, 175, 180, 182, and 200 (including Uniform Audit), and the Department of the Interior's implementation regulations at 2 CFR 1400-1402.

Title of Collection: Administrative Procedures for U.S. Fish and Wildlife Service Financial Assistance Programs.

OMB Control Number: 1018-0100.

Form Number: FWS Form 3-154.

Type of Review: Revision of a currently approved collection.

Respondents/Affected Public: Individuals; commercial organizations; institutions of higher education; nonprofit organizations; foreign entities; and State, local, and Tribal governments.

Total Estimated Number of Annual Respondents: 14,962.

Total Estimated Number of Annual Responses: 16,300.

Estimated Completion Time per Response: Varies from 3 hours to 100 hours, depending on the activity.

Total Estimated Number of Annual Burden Hours: 399,263.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-06589 Filed 3-28-22; 8:45 am]

BILLING CODE 4333-15-P